SECURITIES AND EXCHANGE COMMISSION

[Release No. 34-81733; File No. SR-NASDAQ-2017-081]

Self-Regulatory Organizations; The NASDAQ Stock Market LLC; Notice of Withdrawal of a Proposed Rule Change To Extend the Implementation Date for Certain Changes to the Rule 5700 Series and Rule 5810

September 27, 2017.

On August 7, 2017, The NASDAQ Stock Market LLC (“Nasdaq”) filed with the Securities and Exchange Commission (“Commission”), pursuant to Section 19(b)(1) of the Securities Exchange Act of 1934 ¹ and Rule 19b-4 thereunder,² a proposed rule change to extend the implementation date for certain changes concerning the continued listing requirements for exchange-traded products in the Nasdaq Rule 5700 Series and related changes to Nasdaq Rule 5810. The proposed rule change was published for comment in the Federal Register on August 22, 2017.³ The Commission received one comment letter on the proposed rule change.⁴ On September 22, 2017, Nasdaq withdrew the proposed rule change (SR-NASDAQ-2017-081).

¹ 15 U.S.C. 78s(b)(1).

² 17 CFR 240.19b-4.

³ See Securities Exchange Act Release No. 81406 (August 16, 2017), 82 FR 39920.

⁴ See letter from Jane Heinrichs, Associate General Counsel, Investment Company Institute, to Brent J. Fields, Secretary, Commission, dated September 1, 2017.

For the Commission, by the Division of Trading and Markets, pursuant to delegated authority.⁵
⁵ 17 CFR 200.30-3(a)(12).
Eduardo A. Aleman,
Assistant Secretary.

[FR Doc. 2017-21159 Filed 9-29-17; 8:45 am]

BILLING CODE 8011-01-P